DEPARTMENT OF LABOR

Employment and Training Administration

[TA-W-55,709]

Facilities Management and Maintenance Services of Conway, Inc. Conway, AR; Notice of Termination of Investigation

Pursuant to Section 221 of the Trade Act of 1974, as amended, an investigation was initiated on September 30, 2004, in response to a petition filed by the state on behalf of workers at Facilities Management and Maintenance Services of Conway, Inc., Conway, Arkansas.

The petitioner has requested that the petition be withdrawn. Consequently, further investigation in this case would serve no purpose, and the investigation has been terminated.

Signed at Washington, DC this 20th day of October, 2004.
Linda G. Poole,
Certifying Officer, Division of Trade Adjustment Assistance.

[FR Doc. E4-3024 Filed 11-4-04; 8:45 am]

BILLING CODE 4510-30-P